DEPARTMENT OF DEFENSE

Office of the Secretary

[Transmittal No. 24-1C]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-1C.

Dated: January 9, 2026.
Stephanie J. Bost,
Alternate OSD Federal Register Liaison Officer, Department of Defense.

Transmittal No. 24-1C

Notice of Proposed Issuance of Letter of Offer Pursuant to Section 36(b)(1) of the Arms Export Control Act, as amended

(i) Purchaser: Government of Italy

(ii) Total Sec. 36 (b)(1), AECA Transmittal No.: 24-1

Date: February 15, 2024

Implementing Agency: Air Force

(iii) Description: On February 15, 2024, Congress was notified by congressional certification transmittal number 24-14 of the possible sale, under Section 36(b)(1) of the Arms Export Contract Act, of one hundred twenty-five (125) Guided Bomb Unit (GBU)-53/B Small Diameter Bombs-Increment II (SDB-II) All-Up-Rounds (AURs); and eight (8) GBU-53/B SDB-II Captive Carry Reliability Tests (CCRTs) that were added to a previously implemented case whose value was under the congressional notification threshold. The original FMS case, valued at $22.5 million ($9.7 million in MDE), included twenty-four (24) GBU-53/B SDB-II AURs; and four (4) GBU-53/B SDB-II CCRTs. The Government of Italy has also requested a new FMS case that included twenty-four (24) GBU-53/B SDB-II AURs; and two (2) GBU-53/B SDB-II CCRTs. This notification was for a combined total of one hundred seventy-three (173) GBU-53/B SDB-II AURs; and fourteen (14) GBU-53/B SDB-II CCRTs. Also included were SDB-II Weapon Load Crew Trainers (WLCT) and Practical Explosive Ordnance Disposal Trainers (PEST); munitions support and support equipment; unclassified software delivery and support; spare parts, consumables and accessories, and repair and return support; modifications and maintenance support; unclassified publications and technical documentation; studies and surveys; United States (U.S.) Government and contractor engineering, technical, and logistics support services; and other related elements of logistics and program support. The estimated total cost was $150 million. Major Defense Equipment (MDE) constituted $74 million of this total.

This transmittal reports the addition of the following MDE items: seventy-two (72) GBU-53/B SDB-II AURs and four (4) GBU-53/B SDB-II CCRTs. The following non-MDE items will also be included: major and minor modifications and equipment; training aids and devices; classified software delivery and support; and other related elements of logistics and program support. The estimated total value of the new items is $72.2 million. The estimated MDE value will increase by $37.8 million to a revised $111.8 million. The estimated non-MDE value will increase by $34.4 million to a revised $110.4 million. The estimated total case value will increase by $72.2 million to a revised $222.2million.

(iv) Significance: This notification is being provided because the additional MDE items were not enumerated in the original notification. The proposed sale will improve Italy's capability to meet current and future threats by improving the Italian Air Force and Navy's F-35 weapons capabilities.

(v) Justification: This proposed sale will support the foreign policy and national security objectives of the U.S. by improving the security of NATO ally that is force for political stability and economic progress in Europe.

(vi) Sensitivity of Technology:

The Sensitivity of Technology Statement contained in the original notification applies to additional items reported here.

The highest level of classification of defense articles, components, and services included in this potential sale is SECRET.

(vii) Date Report Delivered to Congress: November 13, 2024

[FR Doc. 2026-00532 Filed 1-13-26; 8:45 am]

BILLING CODE 6001-FR-P